DEPARTMENT OF HEALTH AND HUMAN SERVICES

Food and Drug Administration

[Docket No. 2007N-0098]

Agency Information Collection Activities; Submission for Office of Management and Budget Review; Comment Request; Focus Groups as Used by the Food and Drug Administration

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by November 14, 2007.

ADDRESSES: To ensure that comments on the information collection are received, OMB recommends that written comments be faxed to the Office of Information and Regulatory Affairs, OMB, Attn: FDA Desk Officer, FAX: 202-395-6974, or e-mailed to baguilar@omb.eop.gov. All comments should be identified with the OMB control number 0910-0497. Also include the FDA docket number found in brackets in the heading of this document.

FOR FURTHER INFORMATION CONTACT: Jonna Capezzuto, Office of the Chief Information Officer (HFA-250), Food and Drug Administration, 5600 Fishers Lane, Rockville, MD 20857, 301-827-4659.

SUPPLEMENTARY INFORMATION: In compliance with 44 U.S.C. 3507, FDA has submitted the following proposed collection of information to OMB for review and clearance.

Focus Groups as Used by the Food and Drug Administration—(OMB Control Number 0910-0497)—Extension

Focus groups provide an important role in gathering information because they allow for a more in-depth understanding of consumers' attitudes, beliefs, motivations, and feelings than do quantitative studies. Focus groups serve the narrowly defined need for direct and informal opinion on a specific topic and as a qualitative research tool have three major purposes:

• To obtain consumer information that is useful for developing variables and measures for quantitative studies,

• To better understand consumers' attitudes and emotions in response to topics and concepts, and

• To further explore findings obtained from quantitative studies.

FDA will use focus group findings to test and refine their ideas, but will generally conduct further research before making important decisions such as adopting new policies and allocating or redirecting significant resources to support these policies.

In the Federal Register of March 27, 2007 (72 FR 14279), FDA published a 60-day notice requesting public comment on the information collection provisions. No comments were received.

FDA estimates the burden for completing the forms for this collection of information as follows:

Table 1.—Estimated Annual Reporting Burden¹
FDA Center | Subject | No. of Focus Groups per Study | No. of Focus Groups Sessions Conducted Annually | No. of Participants per Group | Hours of Duration for Each Group (Includes Screening) | Total Hours
Center for Biologics Evaluation and Research | May use focus groups when appropriate | 1 | 5 | 9 | 1.58 | 71
Center for Drug Evaluation and Research | Varies (e.g., direct-to-consumer Rx drug promotion, physician labeling of Rx drugs, medication guides, over-the-counter drug labeling, risk communication) | 10 | 200 | 9 | 1.58 | 2,844
Center for Devices and Radiological Health | Varies (e.g., FDA Seal of Approval, patient labeling, tampons, online sales of medical products, latex gloves) | 4 | 16 | 9 | 2.08 | 300
Center for Food Safety and Applied Nutrition | Varies (e.g., food safety, nutrition, dietary supplements, and consumer education) | 8 | 40 | 9 | 1.58 | 569
Center for Veterinary Medicine | Varies (e.g., animal nutrition, supplements, labeling of animal Rx) | 5 | 25 | 9 | 2.08 | 468
Total |  | 28 | 286 | 9 | 1.78 | 4,252
¹There are no capital costs or operating and maintenance costs associated with this collection of information.

Annually, FDA projects about 28 focus group studies using 186 focus groups lasting an average of 1.78 hours each. FDA has allowed burden for unplanned focus groups to be completed so as not to restrict the agency's ability to gather information on public sentiment for its proposals in its regulatory as well as other programs.

Dated: October 9, 2007.
Jeffrey Shuren,
Assistant Commissioner for Policy.

[FR Doc. E7-20291 Filed 10-12-07; 8:45 am]

BILLING CODE 4160-01-S